FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 010979-063.

Title: Caribbean Shipowners Association.

Parties: CMA CGM, S.A.; Crowley Caribbean Services LLC; Hybur Ltd.; King Ocean Services Limited; Seaboard Marine, Ltd.; Tropical Shipping and Construction Company Limited; and Zim Integrated Shipping Services, Ltd.

Filing Party: Wayne R. Rohde, Esq.; Cozen O'Connor, 1200 19th Street NW., Washington, DC 20036.

Synopsis: The amendment deletes Seafreight Lines, Ltd. as a party to the Agreement.

Agreement No.: 012267-003.

Title: COSCON/CSCL Vessel Sharing and Slot Exchange Agreement.

Parties: China Shipping Container Lines Co., Ltd. and China Shipping Container Lines (Hong Kong) Co. Ltd. (collectively CSCL); COSCO Container Lines Company Limited.

Filing Party: Patricia M. O'Neill, Esq.; Blank Rome, LLP; Watergate; 600 New Hampshire Avenue NW., Washington, DC 20037.

Synopsis: The amendment updates language concerning operational coordination with third parties using slots provided by COSCON and/or CSCL under the Agreement.

Agreement No.: 012295-002.

Title: Hoegh/Hyundai Glovis Middle East Space Charter Agreement.

Parties: Hoegh Autoliners AS and Hyundai Glovis Co. Ltd.

Filing Party: Wayne R. Rohde, Esq.; Cozen O'Connor; 1627 I Street NW., Suite 1100, Washington, DC 20006.

Synopsis: The amendment would add Mozambique, South Africa, Angola, Nigeria, Ghana, Senegal, Kenya and Tanzania to the geographic scope of the agreement, make the agreement bi-directional rather than U.S.-outbound only, and correct the address of Hyundai Glovis.

Agreement No.: 012376.

Title: CMA CGM/COSCON Slot Exchange Agreement Asia—U.S. East Coast.

Parties: CMA CGM S.A. and COSCO Container Lines Company, Limited.

Filing Party: Eric. C. Jeffrey, Esq.; Nixon Peabody LLP; 799 9th Street NW., Suite 500; Washington, DC 20001.

Synopsis: The agreement authorizes the parties to exchange space on vessels they operate or on which they have space in the trade between China, Singapore, Taiwan, Vietnam, and Malaysia and the U.S. Atlantic Coast.

Agreement No.: 012372-001.

Title: CMA CGM/COSCON Slot Exchange Agreement Asia—U.S. West Coast.

Parties: CMA CGM S.A. and COSCO Container Lines Company, Limited.

Filing Party: Eric. C. Jeffrey, Esq.; Nixon Peabody LLP; 799 9th Street NW., Suite 500; Washington, DC 20001.

Synopsis: The amendment revises the initial duration of the Agreement, and clarifies the parties' ability to adjust slot exchange amounts on an ad hoc basis.

Agreement No.: 012377.

Title: MOL/NMCC/WLS/HOEGH Space Charter Agreement.

Parties: Mitsui O.S.K. Lines, Ltd; Nissan Motor Car Carrier Co., Ltd.; World Logistics Service (U.S.A.), Inc.; and Hoegh Autoliners AS.

Filing Party: Eric. C. Jeffrey, Esq.; Nixon Peabody LLP; 799 9th Street NW., Suite 500; Washington, DC 20001.

Synopsis: The agreement would authorize the parties to charter space to/from one another for the carriage of vehicles and other Ro/Ro cargo in the trade between the U.S. and all foreign countries.

Agreement No.: 012378.

Title: Hoegh/Bahri General Cargo Middle East Space Charter Agreement.

Parties: The National Shipping Company of Saudi Arabia d/b/a Bahri AS and Hoegh Autoliners AS.

Filing Party: Wayne R. Rohde, Esq.; Cozen O'Connor; 1200 19th Street NW., Washington, DC 20036.

Synopsis: The agreement would authorize the parties to charter space to/from one another in the trades between all U.S. coasts and ports in countries bordering on the Mediterranean Sea, Red Sea, Arabian Gulf, Persian Gulf, Gulf of Aden, Black Sea, Gulf of Oman, and the Indian Ocean.

By Order of the Federal Maritime Commission.
Dated: December 4, 2015.
Rachel E. Dickon,
Assistant Secretary.

[FR Doc. 2015-31037 Filed 12-8-15; 8:45 am]

BILLING CODE 6731-AA-P